DEPARTMENT OF COMMERCE

National Technical Information Service

National Technical Information Service Advisory Board

AGENCY: National Technical Information Service.

ACTION: Notice of open meeting.

SUMMARY: This notice announces the next meeting of the National Technical Information Service (NTIS) Advisory Board (the Advisory Board).

DATES: The Advisory Board will meet on Thursday, November 12, 2020 from 1:00 p.m. to approximately 4:30 p.m., Eastern Time, via teleconference.

ADDRESSES: The Advisory Board meeting will be via teleconference. Please note attendance instructions under the SUPPLEMENTARY INFORMATION section of this notice.

FOR FURTHER INFORMATION CONTACT: Mr. Daniel Ramsey, (703) 605-6703, DRamsey@ntis.gov.

SUPPLEMENTARY INFORMATION: The Advisory Board is established by Section 3704b(c) of Title 15 of the United States Code. The charter has been filed in accordance with the requirements of the Federal Advisory Committee Act, as amended (5 U.S.C. App.). The Advisory Board reviews and makes recommendations to improve NTIS programs, operations, and general policies in support of NTIS' mission to advance Federal data priorities, promote economic growth, and enable operational excellence by providing innovative data services to Federal agencies through joint venture partnerships with the private sector.

The meeting will focus on a review of the progress NTIS has made in implementing its data mission and strategic direction. A final agenda and summary of the proceedings will be posted on the NTIS website as soon as they are available (http://www.ntis.gov/about/advisorybd.aspx).

The teleconference will be via controlled access. Members of the public interested in attending via teleconference or speaking are requested to contact Mr. Ramsey at the contact information listed in the FOR FURTHER INFORMATION CONTACT section above not later than Friday, November 6, 2020. If there are sufficient expressions of interest, up to one-half hour will be reserved for public oral comments during the session. Speakers will be selected on a first-come, first-served basis. Each speaker will be limited to five minutes. Questions from the public will not be considered during this period.

Speakers who wish to expand upon their oral statements, those who had wished to speak but could not be accommodated on the agenda, and those who were unable to attend are invited to submit written statements by emailing Mr. Ramsey at the email address provided in the FOR FURTHER INFORMATION CONTACT section above.

Dated: September 24, 2020.
Gregory Capella,
Deputy Director.

[FR Doc. 2020-22024 Filed 10-5-20; 8:45 am]

BILLING CODE 3510-04-P